FEDERAL COMMUNICATIONS COMMISSION

47 CFR Part 15

[MB Docket No. 07-91; FCC 07-228]

Third Periodic Review of the Commission's Rules and Policies Affecting the Conversion to Digital Television

AGENCY: Federal Communications Commission.

ACTION: Correcting amendment.

SUMMARY: The Federal Communications Commission (FCC) is correcting final rules affecting the conversion to digital television that were published in the Federal Register at 73 FR 5634, January 30, 2008, which were inadvertently omitted from the rules in the Federal Register.

DATES: Effective December 2, 2009.

FOR FURTHER INFORMATION CONTACT: Evan Baranoff, Evan.Baranoff@fcc.gov, of the Media Bureau, Policy Division, (202) 418-7142.

SUPPLEMENTARY INFORMATION: The Commission's Report and Order in MB Docket No. 07-91, FCC 07-228, adopted December 22, 2007 and released December 31, 2007, revised § 15.120(b) of the Commission's rules. However, the revision to § 15.120(b) to change the words “in diameter” to “measured diagonally” was inadvertently omitted from the rules appendix of the Federal Register summary document, 73 FR 5634, published January 30, 2008. With this document, the Commission amends its rules by revising § 15.120(b) as was intended.

List of Subjects in 47 CFR Part 15

Communications equipment, Digital Television, and Digital Television Equipment.

Accordingly, 47 CFR part 15 is corrected by making the following correcting amendments:

PART 15—RADIO FREQUENCY DEVICES

1. The authority citation for part 15 continues to read as follows:

Authority: 47 U.S.C. 154, 302a, 303, 304, 307, 336, and 544a.

§ 15.120 [Amended]

2. In § 15.120, paragraph (b), remove the words “or larger in diameter” and add, in their place, the words “or larger, measured diagonally,”.

Federal Communications Commission.
William F. Caton,
Deputy Secretary.

[FR Doc. E9-28625 Filed 12-1-09; 8:45 am]

BILLING CODE 6712-01-P